DEPARTMENT OF HEALTH AND HUMAN SERVICES

Administration for Children and Families

Funding Opportunity for Field Initiated Service Demonstration Projects in the Adoption Field

Federal Agency Contact Name: Administration for Children and Families (ACF) & Children's Bureau.

Funding Opportunity Title: Field Initiated Service Demonstration Projects in the Adoption Field.

Announcement Type: Initial.

Funding Opportunity Number: HHS-2004-ACF-ACYF-CO-0019.

CFDA Number: 93.652.

Due Date for Applications: The due date for receipt of applications is July 13, 2004.

I. Funding Opportunity Description

The purpose of this funding opportunity is to support continuous innovation and improvement in the quality of adoption services on topics identified by the field as cutting edge or to test new solutions to continuing problems. Projects must address one of the ACF key priorities: Healthy Marriage, Fatherhood, Rural Initiatives, Faith-based and Community Initiatives, Positive Youth Development and Prevention. Topics of interest to the Children's Bureau also include, but are not limited to, special recruitment, retention, and support for the adoption of children age nine and older, sibling groups and children with disabilities. Other topics of interest include assessment of adoption services and services that expedite adoptions.

Background Information

The number of children in out-of-home care is approximately 534,000. Children entering substitute care have complex problems that require intensive services. Many of these children have special needs because they are born to mothers who did not receive prenatal care, are born with life-threatening conditions or disabilities, are born addicted to alcohol or other drugs, have been exposed to infection with the etiologic agent for the human immunodeficiency virus (HIV), or have been victims of child abuse and neglect. Each year thousands of children are in need of placement in a permanent home. Most of these children are difficult to place because they are older or may be part of a sibling group. Currently there are approximately 126,000 children waiting for adoption.

This funding opportunity is intended to support projects that contribute to the continued expansion of knowledge about the familial and systemic aspects of successful adoptions, as well as the benefits of support for healthy marriages, responsible fatherhood, and positive youth development to successful adoptions. It is believed that the inclusion of faith-based and community organizations is important to developing and sustaining programs that support safety, permanency and well-being for children and families within urban and rural communities. Applicants are encouraged to develop projects that are highly innovative and demonstrate approaches that shorten the time required to achieve permanency for sibling groups, children with disabilities, and adolescents; reduce the number of adoption disruptions; eliminate barriers to inter-jurisdictional adoption; and/or develop and support innovative models for adoption exchanges, networking among agencies and parent support groups across jurisdictional boundaries.

Projects must incorporate one or more of the ACF priorities:

• Prevention: Dedicating resources to prevent the need for intervention services.

• Rural Initiative: Strengthening rural families and communities.

• Positive Youth Development: Promoting ongoing relationships with adult role models; safe places with structured activities; healthy life styles; opportunities to acquire marketable skills; and opportunities for community service and civic participation.

• Faith-based/Community Initiatives: Removing barriers to the full participation of faith-based and other community services in the delivery of social services.

• Healthy Marriage: Helping couples who choose marriage for themselves to develop the skills and knowledge to form and sustain healthy marriages.

• Fatherhood: Helping men become responsible, committed, involved fathers.

For more information: http://www.acf.hhs.gov/programs/region10/priorities/index.html.

Service demonstration grants are awarded to the field to develop collaboration strategies and models designed to increase the number of adoptions, to provide innovative services and to test new service delivery models designed to strengthen families who have adopted children. Projects previously funded by the Children's Bureau have demonstrated that adoptions can be facilitated by designing and implementing plans for permanency early in the child's placement process.

II. Award Information

Funding Instrument Type: Grant.

Anticipated Total Program Funding: The anticipated total for all awards under this funding opportunity in FY2004 is $2 million.

Anticipated Number of Awards: It is anticipated that up to 5 projects will be funded.

Ceiling on Amount of Individual Awards: The grant amount will not exceed $400,000 in the first budget period. An application received that exceeds the upper value of the dollar range specified will be considered “non-responsive” and be returned to the applicant without further review.

Floor of Individual Award Amounts: None.

Average Anticipated Award Amount: $400,000 per budget period.

Project Periods for Awards: The projects will be awarded for a project period of 48 months. The initial grant award will be for a 12 month budget period. The award of continuation funding beyond each 12 month budget period will be subject to the availability of funds, satisfactory progress on the part of the grantee, and a determination that continued funding would be in the best interest of the government.

III. Eligibility Information

1. Eligible Applicants

State governments

County governments

State controlled institutions of higher education

Native American tribal governments (Federally recognized)

Nonprofits having a 501(c)(3) status with the IRS, other than institutions of higher education

Non-profits that do not have 501(c)(3) status with the IRS, other than institutions of higher education

Private institutions of higher education

For-profit organizations other than small businesses

Small businesses

Faith-based organizations are eligible to apply

Additional Information on Eligibility: All applicants must have child welfare and/or adoption experience. Organizations with expertise in child welfare and adoption, and organizations which currently serve children in the public child welfare system are eligible to apply. Applicants without direct access or responsibility for targeted children must apply in partnership with States, local government entities, or public or private licensed child welfare agencies.

Non-profit organizations, including community and faith-based organizations are eligible to apply. Non-profit organizations applying for funding are required to submit proof of their non-profit status. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Private non-profit organizations are encouraged to submit with their applications the survey located under “Grant Related Documents and Forms” titled “Survey for Private, Non-Profit Grant Applicants” at www.acf.hhs.gov/programs/ofs/forms.htm.

Applicants are cautioned that the ceiling for individual awards is $400,000. Applications exceeding the $400,000 threshold will be considered non-responsive and will not be eligible for funding under this announcement.

2. Cost Sharing or Matching

The grantee must provide at least 10 per cent of the total approved cost of the project. The total approved cost is the sum of the Federal share and the non-Federal share. Therefore, a project requesting $400,000 per budget period must include a match of at least $44,444 per budget period. Applicants should provide a letter of commitment verifying the actual amount of the non-Federal share of project costs.

The following example shows how to calculate the required 10% match amount for a $400,000 grant:

$400,000 (Federal share) divided by .90 (100%-10%) equals $444,444 (total project cost including match) minus $400,000 (Federal share) equals $44,444 (required 10% match).

The non-Federal share may be cash or in-kind contributions, although applicants are encouraged to meet their match requirements through cash contributions. If approved for funding, grantees will be held accountable for the commitment of non-Federal resources even if over the amount of the required match. Failure to provide the required amount will result in a disallowance of Federal funds.

Applications that fail to include the required amount of cost sharing will be considered non-responsive and will not be eligible for funding under this announcement.

3. Other

All applicants must have a Dun and Bradstreet Number. On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

IV. Application and Submission Information

1. Address to Request Application Package

ACYF Operations Center, c/o The Dixon Group, Inc., ATTN: Children's Bureau, 118 Q Street, NE., Washington, DC 20002-2132; Telephone: (866) 796-1591.

URL to Obtain Application: www.Grants.gov.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Private, non-profit organizations may voluntarily submit with their applications the survey located under “Grant Related Documents and Forms” titled “Survey for Private, Non-Profit Grant Applicants” at www.acf.hhs.gov/programs/ofs/forms.htm.

Please see Section V.1. Criteria for instructions on preparing the project summary/abstract and the full project description.

Each application must contain the following items in the order listed:

—Application for Federal Assistance (Standard Form 424). Follow the instructions below and those that accompany the form.

In Item 5 of Form 424, put DUNS number in “Organizational DUNS:” box.

In Item 5 of Form 424, include name, phone number, and, if available, email and fax numbers of the contact person.

In Item 8 of Form 424, check ‘New.’

In Item 10 of Form 424, clearly identify the Catalog of Federal Domestic Assistance (CFDA) program title and number for the program for which funds are being requested as stated at the end of this funding opportunity announcement.

In Item 11 of Form 424, identify the single funding opportunity the application addresses.

In Item 12 of Form 424, identify the specific geographic area to be served.

In Item 14 of Form 424, identify Congressional districts of both the applicant and project.

—Budget Information Non-Construction Programs (Form 424A) and Budget Justification.

Follow the instructions provided. Note that Federal funds provided to States and services or other resources purchased with Federal funds may not be used to match project grants.

—Certifications/Assurances. Applicants requesting financial assistance for nonconstruction projects must file the Standard Form 424B, “Assurances: Non-Construction Programs.” Applicants must sign and return the Standard Form 424B with their applications.

Applicants must provide a “Certification Regarding Lobbying” Form when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

Adoption Opportunities program applicants are not required to submit their applications to State Single Points of Contact (SPOC).

By signing the “Signature of Authorized Representative” on the SF 424, the applicant is providing a certification and need not mail assurances for completing the following grant and cooperative agreement requirements:

1. The applicant will have the project fully functioning 90 days of the notification of the grant award.

2. The applicant will participate if the Children's Bureau chooses to do a national evaluation or a technical assistance contract that relates to this priority area.

3. All reports will be submitted in a timely manner, in recommended format (to be provided), and the final report will also be submitted on disk or electronically using a standard word-processing program.

4. Within 90 days of project end date, the applicant will submit a copy of the final report, the evaluation report, and any program products to the National Adoption Information Clearinghouse, 330 C Street, SW., Washington, DC 20447. This is in addition to the standard requirement that the final program and evaluation report must also be submitted to the Grants Management Specialist and the Federal Project Officer.

5. Allocate sufficient funds in the budget to:

a. Provide for the project director and evaluator to attend an annual 3-day grantees' meeting in Washington, DC.

b. Provide for the project director and evaluator to attend an early kickoff meeting for grantees funded under this priority area to be held within the first three months of the project (first year only) in Washington, DC.

c. Provide for 10-15 percent of the proposed budget to project evaluation.

The Office for Human Research Protections of the U.S. Department of Health and Human Services provides website information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

—Project Summary/Abstract (one page maximum). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project (see Section V. Application Review Information). It should describe the objectives of the project, the approach to be used and the results or benefits expected.

—Project Description for Evaluation. Applicants should organize their project description according to the Evaluation Criteria described in Section V. Application Review Information of this funding opportunity announcement providing information that addresses all the components.

—Proof of non-profit status (if applicable). See Section III. Eligibility Information for submission information.

—Indirect cost rate agreement. If claiming indirect costs, provide documentation that applicant currently has an indirect cost rate approved by the Department of Health and Human Services (HHS) or another cognizant Federal agency.

—Letters of agreement and memoranda of understanding. If applicable, include a letter of commitment or Memorandum of Understanding from each partner and/or sub-contractor describing their role, detailing specific tasks to be performed, and expressing commitment to participate if the proposed project is funded.

—Provide a letter of commitment verifying the actual amount of the non-Federal share of project costs.

—The application limit is 80 pages total including all forms and attachments. Submit one original and two copies.

To be considered for funding, each application must be submitted with the Standard Federal Forms (provided at the end of this announcement or through the electronic links provided) following the guidance provided. The application must be signed by an individual authorized to act for the applicant agency and to assume responsibility for the obligations imposed by the terms and conditions of the grant award.

To be considered for funding, each applicant must submit one signed original and two additional copies of the application, including all forms and attachments, to the application receipt point specified in Section IV.3. Submission Dates and Times. The original copy of the application must have original signatures, signed in black ink.

The application must be typed, double spaced, printed on only one side, with at least ½ inch margins on each side and 1 inch at the top and bottom, using standard 12 Point fonts (such as Times Roman or Courier). Pages must be numbered.

Pages over the page limit stated within this funding opportunity announcement will be removed from the application and will not be reviewed. All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from the application copies (not the original) specific salary rates or amounts for individuals specified in the application budget and Social Security Numbers if otherwise required for individuals. The copies may include summary salary information.

Tips for Preparing a Competitive Application: It is essential that applicants read the entire announcement package carefully before preparing an application and include all of the required application forms and attachments. The application must reflect a thorough understanding of the purpose and objectives of the Children's Bureau priority-area initiatives. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant Web sites. Before you begin preparing an application, we suggest that you learn more about the mission and programs of the Children's Bureau by exploring the Web site.

Organizing Your Application: The specific evaluation criteria in Section V. Application Review Information of this funding opportunity announcement will be used to review and evaluate each application. The applicant should address each of these specific evaluation criteria in the project description. It is strongly recommended that applicants organize their proposals in the same sequence and using the same headings as these criteria, so that reviewers can readily find information that directly addresses each of the specific review criteria.

Project Evaluation Plan: Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW., Washington, DC 20447; phone (800) 394-3366; fax (703) 385-3206; e-mail nccanch@calib.com.

Logic Model: A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

Use of Human Subjects: If your evaluation plan includes gathering data from or about clients, there are specific procedures which must be followed in order to protect their privacy and ensure the confidentiality of the information about them. Applicants planning to gather such data are asked to describe their plans regarding an Institutional Review Board (IRB) review. For more information about use of human subjects and IRB's you can visit these Web sites: http://ohrp.osophs.dhhs.gov/irb/irb_chapter2.htm#d2 and http://ohrp.osophs.dhhs.gov/humansubjects/guidance/ictips.htm.

3. Submission Dates and Times

The closing time and date for receipt of applications is 4:30 p.m. eastern standard time (e.t.) on July 13, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms: Numbers for each required item correspond to the numbering of the description of these items in Section IV.2. Content and Form of Application Submission.

What to submit | Required content | Required form or format | When to submit
1. SF424 | Per required form | May be found at http://www.acf.hhs.gov/programs/ofs/grants/form.htm | See application due date.
2. SF424A | Per required form | May be found at http://www.acf.hhs.gov/programs/ofs/grants/form.htm | See application due date.
3.a. SF424B | Per required form | May be found at http://www.acf.hhs.gov/programs/ofs/grants/form.htm | See application due date.
3.b Certification regarding lobbying | Per required form | May be found at http://www.acf.hhs.gov/programs/ofs/grants/form.htm | See application due date.
3.c. Disclosure of Lobbying Activities (SF-LLL) | Per required form | May be found at http://www.acf.hhs.gov/programs/ofs/grants/form.htm | See application due date.
4. Project Summary/Abstract | Summary of application request | See instructions in this funding opportunity announcement | See application due date.
5. Project Description | Responsiveness to evaluation criteria | See instructions in this funding opportunity announcement | See application due date.
6. Proof of non-profit status | See above | See above | See application due date.
7. Indirect cost rate agreement | See above | See above | See application due date.
8. Letters of agreement & MOUs | See above | See above | See application due date.
9. Non-Federal share letter | See above | See above | See application due date.
10. Total application | See above | Application limit 80 pages total including all forms and attachments. Submit one original and two copies | See application due date.

Additional Forms

Private non-profit organizations may submit with their applications the voluntary survey located under “Grant Related Documents and Forms” titled “Survey for Private, Non-Profit Grant Applicants” at www.acf.hhs.gov/programs/ofs/forms.htm.

What to submit | Required content | Required form or format | When to submit
Survey for Private, Non-Profit Grant Applicants | Per required form | May be found at http://www.acf.hhs.gov/programs/ofs/grants/forms.htm | See application due date.

4. Intergovernmental Review

State Single Point of Contact (SPOC)

The Adoption Opportunities program is not covered under Executive Order 12372, “Intergovernmental Review of Federal Programs,” and 45 CFR Part 100, “Intergovernmental Review of Department of Health and Human Services Programs and Activities.” Therefore, applicants are not required to submit their applications to State Single Points of Contact (SPOC).

5. Funding Restrictions

Grant awards will not allow reimbursement of pre-award costs. Construction is not an allowable activity or expenditure under this solicitation.

The non-Federal share may be cash or in-kind contributions, although applicants are encouraged to meet their match requirements through cash contributions. If approved for funding, grantees will be held accountable for the commitment of non-Federal resources even if over the amount of the required match. Failure to provide the required amount will result in a disallowance of Federal funds.

6. Other Submission Requirements

Submission by Mail: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Hand Delivery: Applications hand-carried by applicants, applicant couriers, or by other representatives of the applicant shall be considered as meeting an announced deadline if they are received on or before the deadline date, between the hours of 8 a.m. and 4:30 p.m., e.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Electronic Submission: Please see Section IV. 2. Content and Form of Application Submission, for guidelines and requirements when submitting applications electronically.

V. Application Review Information

1. Criteria

The Paperwork Reduction Act of 1995 (Pub. L. 104-13)

Public reporting burden for this collection of information is estimated to average 40 hours per response, including the time for reviewing instructions, gathering and maintaining the data needed and reviewing the collection information. The project description is approved under OMB control number 0970-0139 which expires 3/31/2004. An agency may not conduct or sponsor, and a person is not required to respond to, a collection of information unless it displays a currently valid OMB control number.

General Instruction for Preparing Full Project Description

Introduction. Applicants required to submit a full project description shall prepare the project description statement in accordance with the following instructions and the specified evaluation criteria. The instructions give a broad overview of what your project description should include while the evaluation criteria expands and clarifies more program-specific information that is needed.

Project Summary/Abstract. Provide a summary of the project description (a page or less) with reference to the funding request.

Objectives and Need for Assistance. Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach. Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles. Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Budget and Budget Justification. Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Personnel.

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits.

Description: Costs of employee fringe benefits unless treated as part of an approved indirect cost rate.

Justification: Provide a breakdown of the amounts and percentages that comprise fringe benefit costs such as health insurance, FICA, retirement insurance, taxes, etc.

Travel.

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment.

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies.

Description: Costs of all tangible personal property other than that included under the Equipment category.

Justification: Specify general categories of supplies and their costs. Show computations and provide other information which supports the amount requested.

Contractual.

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other. Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges.

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Specific Evaluation Criteria

The following criteria will be used to review and evaluate each application. The applicant should address each criterion in the project description. The point values (summing up to 100) indicate the maximum numerical weight each criterion will be accorded in the review process.

Criterion 1. Objectives and Need for Assistance

In reviewing the objectives and need for assistance, the following factors will be considered: (20 points)

(1) The extent to which the application demonstrates an understanding of the goals and objectives of the Adoption Opportunities legislation. This includes the extent to which the proposed project will contribute to achieving those goals and objectives, including goals stated in the purpose and background sections of this funding opportunity announcement.

(2) The extent to which the application present a clear vision of the service system for the target population, including a clear statement of the goals (end products of an effective project) and objectives (measurable steps for reaching these goals) of the proposed project. The extent to which these goals and objectives are based on a thorough understanding of the characteristics of the clients and the context of the proposed intervention.

(3) The extent to which the application demonstrates a clear understanding of the ACF priorities (Prevention, Rural Initiatives, Positive Youth Development, Faith and Community Initiatives, Healthy Marriage, and Fatherhood) which are addressed by the project. The extent to which the project will effectively incorporate and promote one or more of these priorities in program implementation.

(4) The extent to which the application demonstrates a thorough understanding of the characteristics of the target population, the service needs of this population and community, and the status of existing services for children, adolescents and their families/caregivers.

(5) The extent to which the application's review of the literature is comprehensive and reflects a clear understanding of the research on best practices and promising approaches as it relates to the proposed project. This includes the extent to which the review of literature provides evidence that the proposed project is innovative and, if successfully implemented and evaluated, likely to yield findings or results that will contribute to and promote evidence-based practices that will be useful to other agencies and organizations in developing effective services and programs to address the issues effectively.

Criterion 2. Approach

In reviewing the approach, the following factors will be considered: (50 points).

(1) The extent to which the application provides a reasonable timeline for implementing the proposed project, including major milestones and target dates. The extent to which the application describes the factors that could speed or hinder project implementation, and explains how these factors would be managed.

(2) The extent to which there is a detailed description of the services to be provided by the program. The extent to which this program will bridge gaps or substantially improve the current service delivery system and benefit the target population. The extent to which the proposed services are comprehensive in scope, will address a broad range of the target population's needs, and include services identified in Section I. Funding Opportunity Description.

(3) The extent to which the design of the proposed project is evidence-based, reflects up-to-date knowledge from the research and literature on known effective practices, and builds on current theory, research, evaluation data and best practices. The extent to which the project will contribute to increased knowledge or understanding of the problem, issues, or effective strategies and practices in the field. The extent to which the logic model for this project demonstrates strong links between proposed inputs and activities, and intended short-term and long-term outcomes. The extent to which the logic model clearly shows how the achievement of these outcomes would be measured.

(4) The extent to which the project will be culturally responsive to the target population.

(5) The extent to which the proposed services will involve the collaboration of appropriate partners for maximizing the effectiveness of service delivery. The extent to which there are letters of commitment or memoranda of understanding from organizations, agencies, and consultants that will be partners or collaborators in the proposed project. The extent to which these documents describe the role of the agency, organization, or consultant and detail specific tasks to be performed.

(6) The extent to which there is a sound plan for effectively evaluating the achievement of the project's objectives, customer satisfaction, processes, outcomes, impact, the effectiveness of project strategies and the efficiency of the implementation process. The extent to which there is a reasonable plan for securing an external evaluator, if not using internal resources for project evaluation.

(7) The extent to which the methods of evaluation include the use of objective performance measures that are clearly related to the intended outcomes of the project and will produce quantitative and qualitative outcome data. The extent to which the proposed evaluation plan would be likely to yield findings or results about effective strategies, and contribute to and promote evaluation research and evidence-based practices that could be used to guide replication or testing in other settings.

(8) The extent to which useful data on individuals and families, types of services provided, services used, and types and nature of needs identified and met will be effectively collected. The extent to which there is a sound plan for an Institutional Review Board (IRB) review, if applicable.

(9) The extent to which the products that would be developed during the proposed project would provide information on strategies utilized and the outcomes achieved that would support evidence-based improvements of practices in the field. The extent to which the plan for developing and disseminating these products is reasonable and appropriate in scope and budget.

(10) The extent to which the intended audience (e.g., researchers, policymakers, and practitioners) for product dissemination is appropriate to the goals of the proposed project. The extent to which the project's products would be useful to each of these audiences. The extent to which there is a sound plan for effectively disseminating information, through appropriate mechanisms and forums, that will successfully convey the information to, and support replication by, other interested agencies.

Criterion 3. Organizational Profiles

In reviewing the organizational profiles, the following factors will be considered: (20 points).

(1) The extent to which the applicant organization and any partnering organizations collectively have sufficient experience and expertise in developing and implementing innovative projects, programs, or service delivery systems in the adoption, kinship, foster care, or child welfare field.

(2) The extent to which the application evidences sufficient organizational resources to implement the proposed project effectively, including sufficient capacity for administration, program operations, data processing and analysis, reporting and dissemination of findings.

(3) The extent to which the proposed project director, key project staff, and consultants have the necessary technical skill, knowledge, and experience to carry out their responsibilities effectively, including administration, program operations, data collection and analysis, reporting and dissemination of findings. The extent to which current and proposed staff has the capacity to fill the described roles effectively. The extent to which the author of this proposal will be closely involved throughout the implementation of the proposed project.

(4) The extent to which the management plan details a realistic approach to achieving the objectives of the proposed project on time and within budget. The extent to which this plan includes clearly defined responsibilities timelines and benchmarks for accomplishing project tasks. The extent to which there would be a mutually beneficial relationship between the proposed project and other work planned, anticipated or underway with Federal assistance by the applicant.

Criterion 4. Budget and Budget Justification

In reviewing the budget and budget justification, the following factors will be considered: (10 points).

(1) The extent to which the application demonstrates that the project cost and budget information submitted on the standard 424 and 424A for the proposed program are reasonable and justified in terms of the proposed tasks and anticipated outcomes. The extent to which fiscal controls and accounting procedures are in place to ensure prudent use, proper and timely disbursement, and accurate accounting of funds received under this program announcement.

(2) The extent to which the application documents allocation of sufficient funds in the budget to:

a. Provide for the project director and evaluator to attend an annual 3-day grantees' meeting in Washington, DC.

b. Provide for the project director and evaluator to attend an early kickoff meeting for grantees funded under this priority area to be held within the first three months of the project (first year only) in Washington, DC.

c. Provide for 10-15 percent of the proposed budget to project evaluation.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. They will be interested in your plans for sustaining your project without Federal funds if the evaluation findings are supportive. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on unserved or inadequately served clients or service areas and programs addressing diverse ethnic populations.

Approved but unfunded applications: In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

VI. Award Administration Information

1. Award Notices

Anticipated Announcement and Award Dates: Applications will be reviewed in the Summer 2004. Grant awards will have a start date no later than September 30, 2004.

Award Notices: Successful applicants will receive a Financial Assistance Award which will set forth the amount of funds granted, the terms and conditions of the grant, the effective date of the grant, the budget period for which initial support will be given, the non-Federal share to be provided, if applicable, and the total project period for which support is contemplated. The Financial Assistance Award will be signed by the Grants Officer and transmitted via postal mail.

The Commissioner will notify organizations in writing when their applications will not be funded. Every effort will be made to notify all unsuccessful applicants as soon as possible after final decisions are made.

2. Administrative and National Policy Requirements

45 CFR part 74 and 45 CFR part 92.

3. Reporting Requirements

Programmatic Reports and Financial Reports are required semi-annually with final reports due 90 days after the project end date. All required reports will be submitted in a timely manner, in recommended formats (to be provided), and the final report will also be submitted on disk or electronically using a standard word-processing program.

Within 90 days of project end date, the applicant will submit a copy of the final report, the evaluation report, and any program products to the National Adoption Information Clearinghouse, 330 C Street, SW., Washington, DC 20447. This is in addition to the standard requirement that the final program and evaluation report must also be submitted to the Grants Management Specialist and the Federal Project Officer.

Original reports and one copy should be mailed to: Administration for Children and Families, Office of Grants Management, Division of Discretionary Grants, 370 L'Enfant Promenade, SW., Washington, DC 20447.

VII. Agency Contacts

Program Office Contact

Geneva Ware-Rice, 330 C Street, SW., Washington, DC 20447, Telephone: 202-205-8354, E-mail: gware-rice@acf.hhs.gov.

Grants Management Office Contact

William Wilson, 330 C Street, SW., Washington, DC 20447, Telephone: 202-205-8913, E-mail: wwilson@acf.hhs.gov.

General Contact

The Dixon Group, ACYF Operations Center, 118 Q Street, NE., Washington, DC 20002-2132, Telephone: 866-796-1591.

VIII. Other Information

Additional information about this program and its purpose can be located on the following Web sites: http://www.acf.hhs.gov/programs/cb/.

Copies of the following Forms, Assurances, and Certifications are available online at http://www.acf.hhs.gov/programs/ofs/grants/form.htm.

Standard Form 424: Application for Federal Assistance

Standard Form 424A: Budget Information

Standard Form 424B: Assurances—Non-Construction Programs

Certification Regarding Lobbying

Form LLL: Disclosure of Lobbying

Certification Regarding Environmental Tobacco Smoke

Standard Form 310: Protection of Human Subjects

Dated: May 6, 2004.
Frank Fuentes,
Deputy Commissioner, Administration on Children, Youth and Families.

[FR Doc. 04-10966 Filed 5-13-04; 8:45 am]

BILLING CODE 4184-01-P